NUCLEAR REGULATORY COMMISSION

[NRC-2010-0223]

Office of New Reactors; Notice of Availability of the Final Staff Guidance Standard Review Plan Section 13.6.3, Revision 1 on Physical Security—Early Site Permit

AGENCY: Nuclear Regulatory Commission (NRC).

ACTION: Notice of Availability.

SUMMARY: The NRC is issuing its Final Revision 1 to NUREG-0800, “Standard Review Plan (SRP) for the Review of Safety Analysis Reports for Nuclear Power Plants,” Section 13.6.3, Revision 1 on Physical Security—Early Site Permit (Agencywide Documents Access and Management System (ADAMS) Accession No. ML102571602). The NRC staff issues revisions to SRP sections to facilitate timely implementation of the current staff guidance and to facilitate reviews to amendments to licenses for operating reactors or for activities associated with review of applications for early site permits and combined licenses for the Office of New Reactors. The NRC staff will also incorporate Revision 1 of SRP Section 13.6.3 into the next revisions of the Regulatory Guide 1.206, “Combined License Applications for Nuclear Power Plants,” and related guidance documents.

Disposition: On June 15, 2010, the NRC staff issued the proposed Revision 1 on SRP Section 13.6.3 on “Physical Security—Early Site Permit,” ADAMS Accession No. ML100980132. There were no comments received on the proposed revision. Therefore, the guidance is issued as final with editorial change to the proposed notification as above.

ADDRESSES: The NRC maintains an ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Mr. William F. Burton, Chief, Rulemaking and Guidance Development Branch, Division of New Reactor Licensing, Office of New Reactors, U.S. Nuclear Regulatory Commission, Washington, DC, 20555-0001; telephone at 301-415-6332 or e-mail at william.burton@nrc.gov.

SUPPLEMENTARY INFORMATION: The NRC posts its issued staff guidance on the NRC external Web page (http://www.nrc.gov/reading-rm/doc-collections/isg/).

Dated at Rockville, Maryland, this 28th day of October 2010.
For the Nuclear Regulatory Commission,
William F. Burton,
Chief, Rulemaking and Guidance Development Branch, Division of New Reactor Licensing, Office of New Reactors.

[FR Doc. 2010-27866 Filed 11-3-10; 8:45 am]

BILLING CODE 7590-01-P